DEPARTMENT OF DEFENSE

Office of the Secretary

[Docket ID: DoD-2023-OS-0072]

Proposed Collection; Comment Request

AGENCY: Office of the Under Secretary of Defense for Personnel and Readiness (OUSD(P&R)), Department of Defense (DoD).

ACTION: 60-Day information collection notice.

SUMMARY: In compliance with the Paperwork Reduction Act of 1995, the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 20, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

FOR FURTHER INFORMATION CONTACT: To request more information on this proposed information collection or to obtain a copy of the proposal and associated collection instruments, please write to: Office of the Assistant Secretary of Defense for Manpower & Reserve Affairs, Attn: Director, Civil-Military Programs, 1500 Defense Pentagon, Room 2E565, Washington, DC 20301-1500 or contact Capt. Rick Howell, richard.a.howell6.mil@mail.mil, (703) 693-7493.

SUPPLEMENTARY INFORMATION:

Title; Associated Form; and OMB Number: Junior Reserve Officers' Training Corps (JROTC) Program Forms; DD Form X854, DD Form X859, and DD Form X858; OMB Control Number 0704-JRPF.

Needs and Uses: This information is needed to assist school districts in development of JROTC programs and confirm that school district employees assigned to JROTC duty understand DoD's expectations for the performance of their duties and their conduct in the execution thereof.

The DD Form X854, “JROTC Instructor Prohibited Activities Acknowledgement,” certifies the understanding and acknowledgement of activities that the instructor will not participate in with a cadet, trainee, or student. This collection will be used by each education facility where a JROTC program is conducted.

The DD Form X859, “JROTC Student/Parent/Guardian Acknowledgement of Expected Standards of Conduct and Participation,” documents student and parent or guardian's understanding of the expectations, responsibilities, and prohibitions related to participation in the JROTC program, and is used by the Military Service and hosting School District to establish standard operating procedures and code of conduct amongst the instructor and trainee. It also informs the student and parent or guardian of the resources available should an incident take place that requires assistance and or reporting.

The DD Form X858, “JROTC Memorandum of Agreement (MOA)” establishes the contractual acknowledgement and understanding of the responsibilities that the school/instructor/student must maintain in the program.

Affected Public: Individuals or households.

Annual Burden Hours: 276,696.

Number of Respondents: 1,660,176.

Responses per Respondent: 1.

Annual Responses: 1,660,176.

Average Burden per Response: 10 minutes.

Frequency: As needed.

Dated: August 16, 2023.
Natalie M. Ragland,
Alternate OSD Federal Register Liaison Officer, Department of Defense.

[FR Doc. 2023-17879 Filed 8-18-23; 8:45 am]

BILLING CODE 5001-06-P